FEDERAL MARITIME COMMISSION

Notice of Agreements Filed

The Commission hereby gives notice of the filing of the following agreements under the Shipping Act of 1984. Interested parties may submit comments on the agreement to the Secretary, Federal Maritime Commission, Washington, DC 20573, within twelve days of the date this notice appears in the Federal Register. Copies of the agreement are available through the Commission's Web site (www.fmc.gov) or by contacting the Office of Agreements at (202) 523-5793 or tradeanalysis@fmc.gov.

Agreement No.: 012295-003.

Title: Hoegh/Hyundai Glovis Middle East Space Charter Agreement.

Parties: Hoegh Autoliners AS and Hyundai Glovis Co. Ltd.

Filing Party: Wayne R. Rohde, Esq.; Cozen O'Connor; 1200 Nineteenth Street NW., Washington, DC 20036.

Synopsis: The amendment would add Algeria, Djibouti, Egypt, Ethiopia, Greece, Iraq, Morocco, Pakistan, Sudan, Tunisia and Turkey to the scope of the agreement, and convert the agreement to a two-way space charter.

Agreement No.: 012279-003.

Title: Hyundai Glovis/Grimaldi Space Charter Agreement.

Parties: Hyundai Glovis Co. Ltd. and Grimaldi Deep Sea S.p.A. and Grimaldi Euromed S.p.A. (acting as a single party).

Filing Party: Wayne R. Rohde, Esq.; Cozen O'Conner; 1200 Nineteenth Street NW., Washington, DC 20036.

Synopsis: The amendment revises the geographic scope of the agreement to include all ports in Germany and Belgium and to include Italy, and revises the address of Hyundai Glovis.

Agreement No.: 012410-001.

Title: WWL/Hyundai Glovis Space Charter Agreement.

Parties: Wallenius Wilhelmsen Logistics AS and Hyundai Glovis Co. Ltd.

Filing Party: Wayne R. Rohde, Esq.; Cozen O'Connor LLP; 1200 Nineteenth St. NW., Washington, DC 200036.

Synopsis: The amendment deletes the expiration date of the agreement and makes the duration of the agreement indefinite.

Agreement No.: 012482.

Title: Schuyler Line/US Ocean Space Charter and Cooperative Working Agreement.

Parties: Schuyler Line Navigation Company, L.L.C. and U.S. Ocean, L.L.C.

Filing Party: Bryant Gardner, Esq.; Winston & Strawn; 1700 K Street NW., Washington, DC 20006.

Synopsis: The agreement would authorize the Parties to charter space on each other's vessels in the trade between the U.S. and certain countries in Europe, the Middle East, Africa, the Caribbean, Central America and South America.

Agreement No.: 201103-012.

Title: Memorandum Agreement of the Pacific Maritime Association of December 14, 1983 Concerning Assessments to Pay ILWU-PMA Employee Benefit Costs, As Amended, Through April 18, 2017.

Parties: Pacific Maritime Association and International Longshore and Warehouse Union.

Filing Party: David F. Smith, Esq.; Cozen O'Connor; 1200 19th Street NW., Washington, DC 20036.

Synopsis: The amendment revises how the man-hour base assessment will be calculated.

By Order of the Federal Maritime Commission.
Dated: April 28, 2017.
Rachel E. Dickon,
Assistant Secretary.

[FR Doc. 2017-08940 Filed 5-2-17; 8:45 am]

BILLING CODE 6731-AA-P